DEPARTMENT OF TRANSPORTATION

Federal Aviation Administration

14 CFR Part 97

[Docket No. 31070 Amdt. No. 3690]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective April 22, 2016. The compliance date for each SIAP, associated Takeoff Minimums, and ODP is specified in the amendatory provisions.

The incorporation by reference of certain publications listed in the regulations is approved by the Director of the Federal Register as of April 22, 2016.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866;(2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on March 25, 2016.
John S. Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * *

Effective Upon Publication

AIRAC Date | State | City | Airport | FDC No. | FDC Date | Subject
28-Apr-16 | WA | Spokane | Spokane Intl | 5/3564 | 02/29/16 | This NOTAM, published in TL 16-09, is hereby rescinded in its entirety.
28-Apr-16 | SC | Darlington | Darlington County Jetport | 6/2449 | 03/07/16 | This NOTAM, published in TL 16-09, is hereby rescinded in its entirety.
28-Apr-16 | NE | Minden | Pioneer Village Field | 6/2710 | 02/22/16 | This NOTAM, published in TL 16-09, is hereby rescinded in its entirety.
28-Apr-16 | MI | Menominee | Menominee-Marinette Twin County | 5/0762 | 03/14/16 | RNAV (GPS) RWY 21, Orig.
28-Apr-16 | MI | Menominee | Menominee-Marinette Twin County | 5/0763 | 03/14/16 | VOR-A, Amdt 3.
28-Apr-16 | NC | Charlotte | Charlotte/Douglas Intl | 5/6564 | 03/09/16 | RNAV (GPS) Y RWY 18C, Amdt 3B.
28-Apr-16 | IN | Richmond | Richmond Muni | 5/7969 | 03/09/16 | ILS OR LOC RWY 24, Amdt 1.
28-Apr-16 | IN | Richmond | Richmond Muni | 5/7971 | 03/09/16 | RNAV (GPS) RWY 6, Orig.
28-Apr-16 | IN | Richmond | Richmond Muni | 5/7972 | 03/09/16. | RNAV (GPS) RWY 24, Orig.
28-Apr-16 | IN | Richmond | Richmond Muni | 5/7977 | 03/09/16 | VOR RWY 6, Amdt 12.
28-Apr-16 | IN | Richmond | Richmond Muni | 5/7982 | 03/09/16 | VOR RWY 24, Amdt 13.
28-Apr-16 | MO | Fulton | Elton Hensley Memorial | 5/9540 | 03/10/16 | RNAV (GPS) RWY 24, Amdt 1.
28-Apr-16 | MO | Fulton | Elton Hensley Memorial | 5/9541 | 03/10/16 | RNAV (GPS) RWY 6, Amdt 1.
28-Apr-16 | MO | Fulton | Elton Hensley Memorial | 5/9542 | 03/10/16 | VOR-A, Amdt 4.
28-Apr-16 | MO | Fulton | Elton Hensley Memorial | 5/9543 | 03/10/16 | RNAV (GPS) RWY 18, Orig.
28-Apr-16 | PA | Lehighton | Jake Arner Memorial | 6/0164 | 03/14/16 | RNAV (GPS) RWY 26, Amdt 1B.
28-Apr-16 | PA | Lehighton | Jake Arner Memorial | 6/0165 | 03/14/16 | RNAV (GPS) RWY 8, Amdt 1B.
28-Apr-16 | AZ | Window Rock | Window Rock | 6/0461 | 03/14/16 | RNAV (GPS) RWY 2, Amdt 1A.
28-Apr-16 | AZ | Window Rock | Window Rock | 6/0462 | 03/14/16 | VOR/DME-A, Orig-C.
28-Apr-16 | AZ | Window Rock | Window Rock | 6/0463 | 03/14/16 | RNAV (GPS)-B, Orig-B.
28-Apr-16 | NY | Poughkeepsie | Dutchess County | 6/0499 | 03/17/16 | ILS OR LOC RWY 6, Amdt 6B.
28-Apr-16 | NY | Poughkeepsie | Dutchess County | 6/0500 | 03/17/16 | RNAV (GPS) RWY 6, Orig-C.
28-Apr-16 | NY | Poughkeepsie | Dutchess County | 6/0501 | 03/17/16 | RNAV (GPS) RWY 24, Orig-C.
28-Apr-16 | NY | Poughkeepsie | Dutchess County | 6/0502 | 03/17/16 | VOR/DME RWY 24, Amdt 4D.
28-Apr-16 | NY | Poughkeepsie | Dutchess County | 6/0503 | 03/17/16 | VOR-A, Amdt 11C.
28-Apr-16 | AZ | Grand Canyon | Grand Canyon National Park | 6/0507 | 03/14/16 | ILS OR LOC/DME RWY 3, Orig-B.
28-Apr-16 | AZ | Grand Canyon | Grand Canyon National Park | 6/0508 | 03/14/16 | VOR RWY 3, Amdt 5A.
28-Apr-16 | NM | Santa Teresa | Dona Ana County At Santa Teresa | 6/1721 | 03/10/16 | Takeoff Minimums and (Obstacle) DP, Orig.
28-Apr-16 | TN | Portland | Portland Muni | 6/1908 | 03/14/16 | RNAV (GPS) RWY 19, Orig.
28-Apr-16 | TN | Portland | Portland Muni | 6/1910 | 03/14/16 | RNAV (GPS) RWY 1, Orig.
28-Apr-16 | IN | Greencastle | Putnam County Rgnl | 6/2287 | 03/10/16 | VOR/DME-A, Amdt 6.
28-Apr-16 | IN | Greencastle | Putnam County Rgnl | 6/2288 | 03/10/16 | RNAV (GPS) RWY 18, Amdt 1.
28-Apr-16 | IN | Greencastle | Putnam County Rgnl | 6/2289 | 03/10/16 | RNAV (GPS) RWY 36, Amdt 1A.
28-Apr-16 | NE | Cozad | Cozad Muni | 6/2707 | 03/10/16 | RNAV (GPS) RWY 13, Amdt 1.
28-Apr-16 | NE | Cozad | Cozad Muni | 6/2708 | 03/10/16 | RNAV (GPS) RWY 31, Amdt 1.
28-Apr-16 | NE | Cozad | Cozad Muni | 6/2712 | 03/10/16 | VOR RWY 13, Amdt 2.
28-Apr-16 | KS | Emporia | Emporia Muni | 6/2726 | 03/09/16 | RNAV (GPS) RWY 1, Orig.
28-Apr-16 | KS | Emporia | Emporia Muni | 6/2727 | 03/09/16 | RNAV (GPS) RWY 19, Orig.
28-Apr-16 | WI | Sturgeon Bay | Door County Cherryland | 6/3138 | 03/14/16 | RNAV (GPS) RWY 28, Orig.
28-Apr-16 | WI | Sturgeon Bay | Door County Cherryland | 6/3142 | 03/14/16 | RNAV (GPS) RWY 20, Amdt 1.
28-Apr-16 | WI | Sturgeon Bay | Door County Cherryland | 6/3144 | 03/14/16 | RNAV (GPS) RWY 10, Orig.
28-Apr-16 | WI | Sturgeon Bay | Door County Cherryland | 6/3146 | 03/14/16 | RNAV (GPS) RWY 2, Amdt 1A.
28-Apr-16 | NY | Potsdam | Potsdam Muni/Damon Fld/ | 6/3300 | 03/14/16 | NDB RWY 24, Amdt 5A.
28-Apr-16 | NY | Potsdam | Potsdam Muni/Damon Fld/ | 6/3301 | 03/14/16 | RNAV (GPS) RWY 24, Orig.
28-Apr-16 | NC | Charlotte | Charlotte/Douglas Intl | 6/3420 | 03/09/16 | ILS OR LOC RWY 5, Amdt 38.
28-Apr-16 | NC | Charlotte | Charlotte/Douglas Intl | 6/3421 | 03/09/16 | ILS OR LOC RWY 18C, Amdt 10C.
28-Apr-16 | NC | Charlotte | Charlotte/Douglas Intl | 6/3422 | 03/09/16 | ILS OR LOC RWY 23, Amdt 3B.
28-Apr-16 | NC | Charlotte | Charlotte/Douglas Intl | 6/3423 | 03/09/16 | ILS OR LOC RWY 36C, Amdt 16B.
28-Apr-16 | NC | Charlotte | Charlotte/Douglas Intl | 6/3424 | 03/09/16 | RNAV (GPS) Y RWY 5, Amdt 3.
28-Apr-16 | NC | Charlotte | Charlotte/Douglas Intl | 6/3425 | 03/09/16 | RNAV (GPS) Y RWY 23, Amdt 1.
28-Apr-16 | NC | Charlotte | Charlotte/Douglas Intl | 6/3426 | 03/09/16 | RNAV (GPS) Y RWY 36C, Amdt 3B.
28-Apr-16 | MN | Minneapolis | Minneapolis-St Paul Intl/Wold-Chamberlain | 6/3719 | 03/14/16 | ILS V RWY 30R (Converging), Amdt 3A.
28-Apr-16 | KS | Emporia | Emporia Muni | 6/3792 | 03/09/16 | VOR-A, Amdt 14.
28-Apr-16 | OR | Medford | Rogue Valley Intl—Medford | 6/3825 | 03/10/16 | Takeoff Minimums and (Obstacle) DP, Amdt 10.
28-Apr-16 | OH | Wooster | Wayne County | 6/4046 | 03/10/16 | VOR RWY 28, Orig-C.
28-Apr-16 | OH | Wooster | Wayne County | 6/4048 | 03/10/16 | RNAV (GPS) RWY 28, Orig.
28-Apr-16 | TX | Marshall | Harrison County | 6/4051 | 03/14/16 | RNAV (GPS) RWY 33, Orig-A.
28-Apr-16 | TX | Marshall | Harrison County | 6/4052 | 03/14/16 | RNAV (GPS) RWY 15, Orig-A.
28-Apr-16 | TX | Marshall | Harrison County | 6/4053 | 03/14/16 | VOR/DME-A, Amdt 4D.
28-Apr-16 | MT | Dillon | Dillon | 6/4502 | 03/09/16 | VOR-A, Amdt 8.
28-Apr-16 | MT | Dillon | Dillon | 6/4503 | 03/09/16 | VOR/DME-B, Amdt 2.
28-Apr-16 | MT | Dillon | Dillon | 6/4506 | 03/09/16 | RNAV (GPS) RWY 17, Amdt 1A.
28-Apr-16 | GA | Columbus | Columbus | 6/4743 | 03/14/16 | RNAV (GPS) RWY 13, Orig-A.
28-Apr-16 | GA | Columbus | Columbus | 6/4744 | 03/14/16 | ILS OR LOC RWY 6, Amdt 25B.
28-Apr-16 | GA | Columbus | Columbus | 6/4749 | 03/14/16 | RNAV (GPS) RWY 24, Orig-A.
28-Apr-16 | NY | Syracuse | Syracuse Hancock Intl | 6/4922 | 03/14/16 | TACAN RWY 33, Orig-A.
28-Apr-16 | NY | Syracuse | Syracuse Hancock Intl | 6/4923 | 03/14/16 | ILS OR LOC RWY 10, Amdt 13.
28-Apr-16 | NY | Syracuse | Syracuse Hancock Intl | 6/4924 | 03/14/16 | VOR RWY 15, Amdt 23A.
28-Apr-16 | NY | Syracuse | Syracuse Hancock Intl | 6/4925 | 03/14/16 | ILS OR LOC RWY 28, ILS RWY 28 (SA CAT I), ILS RWY 28 (CAT II), Amdt 34A.
28-Apr-16 | VT | Bennington | William H Morse State | 6/4995 | 03/14/16 | VOR RWY 13, Amdt 1A.
28-Apr-16 | SC | Darlington | Darlington County Jetport | 6/5046 | 03/14/16 | NDB RWY 23, Amdt 1.
28-Apr-16 | LA | Houma | Houma-Terrebonne | 6/5719 | 03/14/16 | ILS OR LOC RWY 18, Amdt 4.
28-Apr-16 | ND | Grand Forks | Grand Forks Intl | 6/5851 | 03/14/16 | ILS OR LOC RWY 35L, Amdt 12.
28-Apr-16 | ND | Grand Forks | Grand Forks Intl | 6/5852 | 03/14/16 | RNAV (GPS) RWY 35L, Orig.
28-Apr-16 | ND | Grand Forks | Grand Forks Intl | 6/5853 | 03/14/16 | VOR RWY 35L, Amdt 7.
28-Apr-16 | MN | Minneapolis | Minneapolis-St Paul Intl/Wold-Chamberlain | 6/5959 | 03/14/16 | ILS V RWY 30L (Converging), Amdt 2.
28-Apr-16 | MN | Minneapolis | Minneapolis-St Paul Intl/Wold-Chamberlain | 6/5960 | 03/14/16 | RNAV (GPS) Z RWY 30L, Amdt 4.
28-Apr-16 | MN | Minneapolis | Minneapolis-St Paul Intl/Wold-Chamberlain | 6/5961 | 03/14/16 | ILS V RWY 35 (Converging), Amdt 4.
28-Apr-16 | TN | Dickson | Dickson Muni | 6/6275 | 03/14/16 | NDB RWY 17, Amdt 2D.
28-Apr-16 | TN | Dickson | Dickson Muni | 6/6276 | 03/14/16 | VOR/DME RWY 17, Amdt 4E.
28-Apr-16 | NC | New Bern | Coastal Carolina Regional | 6/6301 | 03/10/16 | RNAV (GPS) RWY 4, Amdt 1.
28-Apr-16 | WV | Bluefield | Mercer County | 6/6304 | 03/14/16 | ILS OR LOC RWY 23, Amdt 15A.
28-Apr-16 | WV | Bluefield | Mercer County | 6/6305 | 03/14/16 | VOR/DME RWY 23, Amdt 5A.
28-Apr-16 | WV | Bluefield | Mercer County | 6/6306 | 03/14/16 | RNAV (GPS) RWY 23, Orig-A.
28-Apr-16 | TN | Nashville | John C Tune | 6/6369 | 03/14/16 | ILS OR LOC/DME RWY 20, Amdt 2.
28-Apr-16 | MN | Minneapolis | Minneapolis-St Paul Intl/Wold-Chamberlain | 6/6424 | 03/14/16 | ILS Z OR LOC RWY 30R, Amdt 15.
28-Apr-16 | MN | Minneapolis | Minneapolis-St Paul Intl/Wold-Chamberlain | 6/6426 | 03/14/16 | RNAV (GPS) Z RWY 30R, Amdt 3.
28-Apr-16 | TX | Seymour | Seymour Muni | 6/6437 | 03/09/16 | GPS RWY 17, Orig.
28-Apr-16 | VA | Newport News | Newport News/Williamsburg Intl | 6/6676 | 03/10/16 | RNAV (GPS) RWY 25, Amdt 2A.
28-Apr-16 | VA | Newport News | Newport News/Williamsburg Intl | 6/6679 | 03/10/16 | ILS OR LOC RWY 25, Amdt 1B.
28-Apr-16 | MT | Butte | Bert Mooney | 6/6791 | 03/14/16 | LOC/DME RWY 15, Amdt 7.
28-Apr-16 | AZ | Grand Canyon | Grand Canyon National Park | 6/7427 | 03/14/16 | RNAV (GPS) RWY 3, Orig-A.
28-Apr-16 | MA | Taunton | Taunton Muni—King Field | 6/7777 | 03/14/16 | NDB RWY 30, Amdt 5A.
28-Apr-16 | MA | Taunton | Taunton Muni—King Field | 6/7778 | 03/14/16 | RNAV (GPS) RWY 30, Orig-A.
28-Apr-16 | WI | Viroqua | Viroqua Muni | 6/7802 | 03/10/16 | RNAV (GPS) RWY 29, Orig-A.
28-Apr-16 | WA | Spokane | Spokane Intl | 6/8435 | 03/22/16 | RNAV (RNP) Z RWY 7, Orig.
28-Apr-16 | OH | Wooster | Wayne County | 6/8706 | 03/22/16 | VOR RWY 10, Amdt 1.
28-Apr-16 | MN | Minneapolis | Minneapolis-St Paul Intl/Wold-Chamberlain | 6/8908 | 03/14/16 | ILS Z OR LOC RWY 30L, ILS Z RWY 30 L (CAT II), Amdt 46A.
28-Apr-16 | MT | Deer Lodge | Deer Lodge-City-County | 6/9524 | 03/14/16 | RNAV (GPS)-A, Orig.
28-Apr-16 | CA | Los Angeles | Los Angeles Intl | 6/9824 | 03/17/16 | RNAV (RNP) Z RWY 6L, Orig-C.

[FR Doc. 2016-08753 Filed 4-21-16; 8:45 am]

BILLING CODE 4910-13-P